ENVIRONMENTAL PROTECTION AGENCY

[FRL-9484-1]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held November 16 and 17 at 2660 Woodley Road NW., Washington, DC 20008. The CHPAC advises the Environmental Protection Agency on science, regulations, and other issues relating to children's environmental health.

DATES: The CHPAC will meet from 9 a.m. to 5:30 p.m. on November 16 and from 8:30 a.m. to Noon on November 17, 2011.

ADDRESSES: 2660 Woodley Road NW., Washington, DC 20001.

FOR FURTHER INFORMATION CONTACT: Martha Berger, Office of Children's Health Protection, USEPA, MC 1107T, 1200 Pennsylvania Avenue NW., Washington, DC 20460, (202) 564-2191, berger.martha@epa.gov.

SUPPLEMENTARY INFORMATION: The meetings of the CHPAC are open to the public. Preliminary agenda includes finalization of two letters of advice to the Administrator, update on school guidance documents, presentation and discussion on the use of electronic medical records for asthma screening, presentation and discussion on the IOM Sustainability Report and a panel on natural gas extraction. The final agenda will be posted at http://www.epa.gov/children.

Access: For information on access or services for individuals with disabilities, please contact Martha Berger at (202) 564-2191 or berger.martha@epa.gov.

Dated: October 7, 2011.
Martha Berger,
Designated Federal Official.

[FR Doc. 2011-27984 Filed 10-27-11; 8:45 am]

BILLING CODE 6560-50-P